DEPARTMENT OF STATE

[Public Notice 6962]

Bureau of Educational and Cultural Affairs (ECA) Request for Grant Proposals: Kennedy-Lugar Youth Exchange and Study (YES) Program: “Overseas YES Inbound Recruitment, YES Abroad Placement, and Alumni Components” for the 2011-12 Academic Year

Announcement Type: New Grant.

Funding Opportunity Number: ECA/PE/C/PY-10-06.

Catalog of Federal Domestic Assistance Number: 19.415.

Key Dates: September 1, 2010—September 30, 2013.

Application Deadline: June 3, 2010.

Executive Summary: The Office of Citizen Exchanges of the Bureau of Educational and Cultural Affairs (ECA) announces an open competition for a grant to support exchanges and relationship building between high school students from countries with significant Muslim populations and the people of the United States. Public and private non-profit organizations meeting the provisions described in Internal Revenue Code section 26 U.S.C. 501(c)(3) and public institutions may submit a proposal for the Overseas YES Inbound Recruitment, YES Abroad Placement, and Alumni Components to: Recruit and select approximately 1,077 students from designated countries (referred to herein as “inbound” participants), provide orientations, coordinate logistics, and provide follow-on alumni programs in support of an academic year or semester of study in the United States, incorporating themes promoting civil society, leadership, and mutual understanding; and select approximately 50 American participants and identify host families and schools for their placement and support in ten countries overseas.

To implement the entirety of the YES program, two Requests for Grant Proposals are being announced at this time (the Disabilities Components will be handled through a separate grant process.): one (this announcement) covers Kennedy-Lugar Youth Exchange and Study Program (YES) Overseas Recruitment, YES Abroad Placement, and Alumni Components. A separate announcement will solicit organizations to arrange placement of Inbound Kennedy-Lugar YES students with U.S. host families and schools and monitor their health, safety and welfare, and identify and nominate U.S. students for consideration for the YES Abroad program.

This Overseas YES Inbound Recruitment, YES Abroad Placement, and Alumni Components announcement requires:

• Development of all program materials for marketing to U.S. and non-U.S. students, a host family and school handbooks, web presence, student application forms, and other standardized program forms and publications.

• Recruitment and selection of approximately 1,077 YES Inbound participants in designated countries overseas.

• Final selection of approximately 50 American participants from among those recruited and proposed by U.S. Placement Organizations.

• Placement and support of YES Abroad American participants with host families and schools in ten eligible countries overseas.

• All overseas orientations for all YES Abroad and YES Inbound participants.

• Alumni programs for YES Abroad and YES Inbound participants.

Organizations are invited to submit proposals to recruit, screen and select approximately 1,077 qualified high school students from over 35 designated countries; conduct local student and natural family orientations; provide cross-cultural training; collaborate with U.S. placement organizations for on-program counseling; coordinate programmatic and on-program participant monitoring activities; and evaluate program implementation for students participating in the YES Inbound program during the 2011-12 academic year.

In addition, the organization selected under this announcement will select from among American students proposed by U.S. Placement Organizations 50 American students and place them in ten eligible countries overseas for the YES Abroad Program. For YES Abroad, the eligible hosting countries at the time of publication of this RFGP are: Egypt, Ghana, India, Indonesia, Malaysia, Mali, Morocco, Oman, Thailand, and Turkey.

The Bureau reserves the right to amend these lists at any time as conditions change.

Under the Kennedy-Lugar Youth Exchange and Study (YES) Program Overseas Inbound Recruitment, YES Abroad Placement, and Alumni Components grant, applicants are encouraged to consider the formation of a consortium of partners to implement activities in all countries listed below. (Partial lists of country programs will not be accepted.) It is ECA's expectation that it will not be likely that one organization will have the desired experience and expertise in all countries, therefore the strongest proposals may be from organizations that propose oversight to a number of organizations with the necessary capacity to carry out activities in each country. Nonetheless, the applicant must accept full responsibility for coordination, standardization, and delivery of high-quality performance within each country.

I. Funding Opportunity Description

Authority

Overall grant making authority for this program is contained in the Mutual Educational and Cultural Exchange Act of 1961, as amended, Public Law 87-256, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic, and peaceful relations between the United States and the other countries of the world.” The funding authority for the program above is provided through legislation.

Purpose

The Kennedy-Lugar Youth Exchange and Study (YES) Program is designed to foster a global community of shared interests and values developed through better mutual understanding via first-hand participation of high school students, preferably aged 15-18.5, from countries with significant Muslim populations in academic year or semester exchanges to the United States. The program seeks to select up to 1,077 inbound students with leadership potential, to develop their leadership skills while in the U.S., and to support them in alumni activities after they return home. The YES Abroad program would include approximately 50 high school students from the United States.

The overarching goals of the program are to:

1. Promote better understanding by youth from selected countries about local society, people, institutions, values and culture;

2. Foster lasting personal ties;

3. Engage the exchange participants in activities that advance mutual understanding, respect for diversity, leadership skills, and understanding of civil society during their exchange experience;

4. Enhance Americans' understanding of other countries and cultures;

5. Increase the capacity of organizations in participating countries to engage youth in activities that enhance mutual understanding, respect for diversity, leadership skills, and understanding of civil society through alumni activities.

Eligible Countries

The partner countries for this program have been selected based on several factors: (1) Foreign policy considerations, (2) a favorable climate for exchange, and (3) anticipated recruitment and placement capacity for students from each listed country. The list below includes the countries that are currently participating in the YES Inbound program. An approximate target number of students is indicated for each country based on the experience of previous years and/or anticipated capacities for successful recruitment and placement. Proposals should budget for up to the targeted number of inbound students:

Afghanistan (50) | Gaza (10)
Albania (15) | Ghana (35)
Bahrain (10) | India (45)
Bangladesh (35) | Indonesia (103)
Bosnia and Herzegovina (15) | Israel (Arab Communities) (22)
Bulgaria (7) | Jordan (28)
Cameroon (6) | Kenya (25)
Egypt (50) | Kosovo (7)
Lebanon (45) | Kuwait (18)
Liberia (6) | Saudi Arabia (20)
Macedonia (15) | Senegal (17)
Malaysia (50) | Sierra Leone (7)
Mali (17) | South Africa (6)
Morocco (25) | Suriname (5)
Mozambique (10) | Tanzania (30)
Nigeria (30) | Thailand (20)
Oman (9) | Tunisia (20)
Pakistan (108) | Turkey (50)
Philippines (40) | West Bank (25)
Qatar (6) | Yemen (35)

For YES Abroad, the eligible countries at the time of publication of this RFGP are: Egypt, Ghana, India, Indonesia, Malaysia, Mali, Morocco, Oman, Thailand, and Turkey.

The Bureau reserves the right to amend these lists at any time as conditions change. Should an applicant have questions in regards to countries on this list, please contact the Bureau. (See Section IV.1 for contact information.)

For Overseas YES Inbound Recruitment, an applicant must propose no fewer than the number of students per country shown above. Applicants must submit proposals that include all the countries. YES Inbound participants are governed by the protections of the J-1 visa regulations governing exchange students coming to the U.S.; applicants must coordinate with Placement Organizations to insure and uphold all U.S. J-1 visa regulations.

In their proposals applicants must describe in detail their plans for YES Overseas Inbound student recruitment, selection, placement, orientation, and monitoring procedures that will ensure this requirement's implementation. You will coordinate with the YES Inbound Placement Organizations to provide inbound student information and logistics. Proposals should provide implementation plans by country for student orientations pre- and post-exchange, and follow-on activities for returning alumni of the program.

For YES Abroad, an applicant must propose placing no fewer than three (3) students per country. It is acknowledged that outbound American participants are not governed by the same protections of the J-1 visa regulations governing exchange students coming to the U.S; therefore for the safety and security of the American participants, it is a requirement that an applicant must provide similar protections and oversight traditionally afforded to inbound students under the U.S. J-1 visa regulations. One potential exception may be the J-1 visa regulation of requiring criminal background checks of host families, which the Program Office recognizes may not be possible. However, the applicant must propose an appropriate means of verifying the integrity and suitability of each host family.

In their proposals applicants must describe in detail their plans for YES Abroad host family screening, selection, placement, orientation, initial and on-going language training, and monitoring procedures that will ensure this requirement's implementation. YES Abroad student recruitment will be handled through another grant. Successful applicants must coordinate with these grantees for recruitment information and logistics, and make the final selection of YES Abroad students based on the students' interests and backgrounds and the numbers needed for placement per country. The applicant must develop and coordinate selection criteria and a process whereby each U.S. YES Inbound Placement and YES Abroad Recruitment grantee will market the YES Program, receive applications and have the opportunity to nominate qualified student candidates for the YES Abroad program. In a transparent, merit-based process, the applicant will then select and submit to ECA and the respective embassies the names and information on the finalists for review and concurrence.

Proposals should provide implementation plans by country for YES Abroad school enrollment, host family screening and placement, cultural enrichment activities, and student support that includes post-arrival, mid-year, and re-entry orientations for American participants. Organizations may propose sub-grantee or partner organizations to implement overseas portions of the grant.

Execution of the YES Program: Other Components

The Bureau will be awarding other grants to administer the “Placement Components” of the YES Inbound program, to perform the following functions for inbound students: to recruit and screen U.S. host families; secure school placements; conduct local student and host family orientations; provide cultural and educational enrichment activities; handle all counseling and programmatic issues; and evaluate program implementation. These grants will also support identification and recruitment of U.S. students for YES Abroad among the placement organization's network of American high schools.

Another organization is currently responsible for supporting students with disabilities. This involves a preparatory program orientation and a year-end reentry training, as well as supplementary ongoing support throughout the year in order to help students with disabilities cope with challenges specific to their circumstances.

Grant Funding History

The first competition for the YES program was conducted in 2002 and grants were awarded in FY 2002 to bring students to the U.S. in the fall of 2003. Grants were subsequently renewed in FY 2003 and FY 2004. The second competition for grants to assist ECA in expanding the reach of the program was conducted in FY 2005, and the grants awarded were subsequently renewed in FY 2006 and FY 2007. In FY 2008, grants were awarded on a competitive basis, with a renewal in FY 2009. This RFGP reflects a new grant structure and includes YES Abroad. The YES program has grown incrementally each year from approximately 165 students from 11 countries in academic year 2003-04 to nearly 1,000 students from over 35 countries in 2010-11.

Through this open competition ECA seeks to provide an award to fund approximately 50 students from the United States to participate in the YES Abroad program during the 2011-2012 academic year. Applicants that have not participated in the YES program previously are encouraged to view the program's Web site at: http://exchanges.state.gov/education/citizens/students/programs/yes.htm and to contact the Youth Division Program Office representatives listed in this solicitation.

Scope of Program, Timeline, and Applicant Infrastructure

Funding for the YES Inbound program will support academic year-long exchanges (between August 2011 and June 2012) with students enrolled in accredited U.S. schools and living with host families. Proposals for single semester exchanges for inbound students (spring 2012) may be proposed only for Malaysia where the academic calendar will not allow a full-year U.S. program.

It is anticipated that awards will commence in September 2010 with marketing, recruitment, selection of inbound students and exchange program planning taking place throughout the remainder of 2010-2011 period.

Given current U.S. visa processing timelines in some countries, inbound students must be selected early enough to allow up to six months between the visa interview date and the date of departure for students to obtain visas in time for an August 2011 arrival. The grantee must work with the U.S. Embassy in each country to ensure timely processing of U.S. visas for all inbound participants.

The grantee will distribute YES Inbound finalists to U.S. placement organizations, selected and funded through a separate grant competition, through a fair, equitable and transparent process, which applicants should explain in their proposal narrative. The applicant will be in direct communication with all placement organizations working with YES students and will be the primary liaison with ECA program officers.

For countries where the standard of English instruction does not provide an adequate qualified applicant pool, selected inbound students requiring additional language instruction may receive pre-program English language enhancement activities. This will help to ensure that the weaker language qualifications of students from more remote areas are not an excluding factor in their selection.

For YES Abroad, the grantee will develop marketing materials for recruitment of American students to be carried out by placement organizations (funded under another grant) and recruit host families, hold a competitive selection process, and develop and implement all aspects of its proposed program in consultation with ECA and each host country's U.S. Embassy. YES placement organizations will provide nominations of YES Abroad applicants for consideration in selection.

YES Abroad participants will depart the United States during the summer of 2011 and remain in their host countries for 10 or 11 months until their departure during the period of mid-May to early July 2012. Schedules will depend on the academic calendar in each host country. In addition to attending school, YES Abroad students from the United States must receive intensive language and cross-cultural training for two to four weeks upon arrival and on-going formal tutoring at least during the first (fall) semester. The students will be exposed to local culture through enhancement activities that will enable them to attain a broad view of the host country's society. Students will explore opportunities for volunteerism and community service and be encouraged to share their culture, lifestyle and traditions with local citizens throughout their stay.

All YES Inbound participants will have opportunities to give presentations on the U.S. in community forums. Therefore, students must be prepared beforehand on how to present information on their home countries.

ECA will accept proposals from individual organizations with adequate infrastructure in both the U.S. and the partner countries to conduct all aspects of the program as described in the POGI, or from organizations that have formed consortia with qualified organizations or representatives to implement specified tasks to complete the project. In the latter case, the applicant must have a significant role in implementing a significant portion of the programs and meet all eligibility criteria discussed in this solicitation.

Applicants may propose value-added programming for students as long as it directly supports YES program objectives, themes, and goals, and enhancement activities related to the YES program mission. Examples could include special workshops or student projects focused on issues particularly relevant in the Inbound students' home country or region.

Applicants may not propose names other than “Kennedy-Lugar Youth Exchange and Study (YES) Program” for their program, so that all student participants and alumni will identify themselves first and foremost with the YES program. All materials produced for grant activities should bear the YES logo, acknowledge the Department of State as the funding source and reflect the State Department's objectives for the program. An exception to this requirement can only be made upon agreement from ECA and the U.S. Embassy in the respective countries.

The YES Inbound program is for all students from countries with significant Muslim populations. However, participation in the YES program is not limited to Muslim students. It is ECA's expectation that the participants from any country will collectively reflect the religious, ethnic, socio-economic, and geographic diversity of their country, to the extent possible. In order to support cross-cultural communication and understanding, ECA encourages applicants to request funding for consultants specially skilled in Islamic cultures. These consultants will provide training for grantee staff and volunteers to develop printed and online resource materials that support the unique cultural needs of their YES students, and should offer services such as an on-call resource for staff, volunteers, host and natural families, and to provide students with support.

General Responsibilities

The grantee organization will be responsible for all aspects of the YES Program's organizational and administrative implementation, including marketing, recruitment, and selection of inbound and outbound students, procurement of U.S. visas and transit visas for inbound students as required, transportation to and from the U.S., pre-departure orientation for YES Abroad and YES inbound, and re-entry orientations of inbound students as well as their natural and host families, support of students throughout the year, and follow-on alumni activities for returning Inbound students. The responsibilities of the grantee are described in further detail in the accompanying Program Objectives, Goals, and Implementation (POGI) document.

YES Inbound program responsibilities include:

• Recruitment and selection of 1,077 high school students from countries with significant Muslim populations.

• Provision of extensive orientation of the selected students to the program prior to their coming to the U.S. English language training may also be provided to encourage diversity in the selection pool and as needed, to meet projected recruitment levels.

• Provision of pre-departure and re-entry orientations for students to address program rules and goals and to provide support to students while in the U.S. and following their return home.

• Preparation of YES program participants to share their culture, lifestyle, and traditions with U.S. citizens throughout their stay and during special international events that highlight exchanges such as International Education Week and Global Youth Service Day.

• Provision of YES students with leadership training and opportunities that will foster skills they can take back with them and use in their home countries.

• Provision of activities that will increase and enhance students' understanding of the importance of tolerance and respect for the views, beliefs, and practices of others in a diverse society.

• Development of an alumni database and creation of alumni programs—both in coordination with the U.S. Embassies—giving opportunities for returning students to incorporate their knowledge and skills into service in their home countries.

• Holding an alumni conference for which all interested YES alumni can apply to attend. The conference may be one global event, or multiple events held in various regions.

YES Abroad responsibilities include:

• Substantially involving U.S. Embassies in the program activities outlined herein and beyond routine grant monitoring.

• Developing and implementing all aspects of the proposed program in consultation with ECA and the host country's U.S. Embassy.

• Developing a standardized screening process in the selection of host families for YES Abroad students and obtaining the Public Affairs Section (PAS) of the U.S. Embassy's concurrence on proposed placement locations (neighborhoods, regions) prior to sharing placement information with YES Abroad participants.

• Enrolling American YES Abroad participants in accredited public or private schools with other host country national with a general academic curriculum.

• Providing intensive program, cultural, and language training and continued language training throughout the program.

• Monitoring the welfare, health and safety of YES Abroad participants while overseas and documenting their progress throughout the program, providing counseling, feedback, and support. Reporting significant adjustment issues to the U.S. Embassy and ECA.

General YES Program Overseas Component Responsibilities Include:

• In consultation with U.S. Embassies and ECA, developing a comprehensive operational guideline manual setting procedures for communication, documentation, and logistics throughout the program.

• Developing and distributing marketing materials (brochures, posters, advertisements, press releases, etc.) for the YES Program in each country.

• Developing and monitoring a broad-scope interactive YES program Web site to market and present the YES program with foci on both the YES Abroad and Inbound components. The Web site must have features that target and instruct both prospective students and host families and alumni of both programs.

• Developing and publishing handbooks for schools, host families and students for both the YES Abroad and Inbound components.

• Developing standardized templates for participant applications for both the YES Abroad and Inbound components.

• Developing and maintaining a database for all participant and host family information for both the YES Abroad and Inbound components.

The ECA program office and U.S. Embassy activities and responsibilities for this program are as follows:

• Determining in-country the priorities for recruitment of YES Inbound participants, and to participate in the final interview and selection process of inbound participants.

• Reviewing and approving all in-country YES program materials for the public.

• Reviewing proposed school and host family placement or alternative housing arrangement plans per criteria set forward in the POGI for each YES Abroad participant before final arrangements are made.

Through participation in the YES program, Inbound students should:

1. Acquire an understanding of important elements of a civil society. This includes concepts such as volunteerism, the idea that American citizens can and do act at the grassroots level to deal with societal problems, and an awareness of and respect for the rule of law.

2. Develop an appreciation for American culture, an understanding of the diversity of American society and increased respect for diversity, and appreciation for others with differing views, beliefs and practices.

3. Interact with Americans and generate enduring ties.

4. Teach Americans about the cultures of their home countries.

5. Gain leadership capacity that will enable them to initiate and support activities in their home countries that focus on development and community service in their role as YES alumni.

The overall goals of the YES Abroad program are to:

1. Promote better understanding by American youth about selected countries and their society, people, institutions, values and culture;

2. Foster lasting personal ties;

3. Enhance foreign audiences' understanding of American culture;

4. Expose program participants to leadership development opportunities and enhancement activities;

5. Increase the capacity of the exchange infrastructure in participating countries to engage youth in activities that advance mutual understanding, respect for diversity, and civil society.

Further Considerations

1. It is anticipated that one grant will be awarded for the Overseas YES Inbound Recruitment, YES Abroad Placement, and Alumni Components for the 2011-12 Academic Year. Applicants must demonstrate that training of local staff ensures their competence in providing culture and YES-specific orientation programs. Please refer to the Solicitation Package for details on essential program elements, permissible costs, and criteria used to select students.

2. ECA anticipates the grant beginning no later than September 2010.

3. Administration of the YES program must be in compliance with reporting and withholding regulations for Federal, state, and local taxes as applicable.

4. The grantee is required to make an effort to recruit and include students with disabilities in the exchange. As previously noted, the ECA Program Office intends to award a grant to a separate organization to provide a special arrival orientation (in August 2011) and a pre-departure orientation in the spring of 2012, as well as on-going support throughout the year for the students with disabilities. These orientations are in addition to general orientations to be conducted by the recipient of this grant. The recipient will also be expected to assist in accommodating for the timing of these special orientations.

5. All YES Inbound exchange participants must travel on J-1 visas using DS-2019s issued by the ECA program office under its program designation.

6. Applicants should reflect an understanding of the related youth work of various international agencies in the proposed countries, such as the U.S. Agency for International Development, World Bank, non-governmental organizations (NGOs) working with youth, and development foundations as a way to enhance alumni programming and provide participants with resources and support when they return home.

7. Projects should promote youth awareness of and involvement in civic and democratic processes, including respect for diversity, accountability of government, human rights, and inclusiveness of women, people with disabilities, and minorities. Proposals may include small grants to encourage alumni to utilize what they have learned while on the exchange upon their return to their home countries to promote civic education projects and community development and community service initiatives.

8. Proposals must contain letters of commitment from any foreign or domestic partners to be involved in the program, and these letters should be tailored to the activities being proposed.

Please refer to the Solicitation Package for further information, especially the Project Objectives, Goals and Implementation (POGI) and the Proposal Submission Instructions (PSI).

II. Award Information

Type of Award: Grant Agreement.

Fiscal Year Funds: 2010.

Approximate Total Funding: $17,500,000.

Approximate Number of Awards: 1.

Approximate Average Award: $17,500,000.

Anticipated Award Date: September 2010.

Anticipated Project Completion Date: September 30, 2013.

Additional Information: Pending successful implementation of this program, awardees' ability to comply with Federal Regulations and ECA guidelines, and the availability of funds in subsequent fiscal years, it is ECA's intent to renew this grant or cooperative agreement for two additional fiscal years, before openly competing it again.

III. Eligibility Information

III.1. Eligible Applicants

Applications may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

a. Grants awarded to eligible organizations with less than four years of experience in conducting international exchange programs will be limited to $60,000. ECA anticipates awarding one grant, in an amount over $60,000 to support program and administrative costs required to implement this exchange program. Therefore, organizations with less than four years of experience in conducting international exchange programs are ineligible to apply under this competition. The Bureau encourages applicants to provide maximum levels of cost sharing and funding in support of its programs.

b. Sub-Awards: Due to the scope and geographic breadth of this grant, it is highly anticipated that applicants may propose multiple organizations as sub-award partners. This is encouraged to strengthen the awardee's capacity in each country. Each partner must have significant previous history in youth exchange within the respective country(ies) where they will implement the program. The applicant will however be fully responsible for the oversight of its sub-awardees. Further information on sub-agreements is provided in the OMB Circulars referenced in Section VI.2.

c. Technical Eligibility: All proposals must comply with the following, or they will result in your proposal being declared technically ineligible and given no further consideration in the review process:

• Proposed programs may not involve multiple academic year exchanges or exchanges to take place other than within the dates of August 2011 and June 2012;

• Proposals must identify essential partners and include letters of commitment from partners critical to the implementation of the program.

IV. Application and Submission Information

Note: Please read the complete Federal Register announcement before sending inquiries or submitting proposals. Once the RFGP deadline has passed, Bureau staff may not discuss this competition with applicants until the proposal review process has been completed.

IV.1 Contact Information To Request an Application Package

Please contact Matt O'Rourke at ECA/PE/C/PY, U.S. Department of State, SA-5, 3-I17, 2200 C St. NW., Washington, DC 20522, telephone: 202-632-6065 or ORourkeMM@state.gov to request a Solicitation Package. Please refer to the Funding Opportunity Number ECA/PE/C/PY-10-06 located at the top of this announcement when making your request.

Alternatively, an electronic application package may be obtained from grants.gov. Please see section IV.3f for further information.

The Solicitation Package contains the Proposal Submission Package, which consists of required application forms, and standard guidelines for proposal preparation. It also contains the Project Objectives, Goals and Implementation (POGI) document, which provides specific information, award criteria and budget instructions tailored to this competition.

Please specify Kevin Baker, Program Officer, and refer to the Funding Opportunity Number ECA/PE/C/PY-10-06 located at the top of this announcement on all other inquiries and correspondence.

IV.2. To Download a Solicitation Package via Internet

The entire Solicitation Package may be downloaded from the Bureau's Web site at http://exchanges.state.gov/grants/open2.html or from the Grants.gov Web site at http://www.grants.gov. Please read all information before downloading.

IV.3. Content and Form of Submission

Applicants must follow all instructions in the Solicitation Package. The original and ten copies of the application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application. Please Note: Effective January 7, 2009, all applicants for ECA Federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will be required to submit a one-page document, derived from their program reports, listing and describing their grant activities. For award recipients, the names of directors and/or senior executives (current officers, trustees, and key employees), as well as the one- page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa

The Office of Citizen Exchanges of the Bureau of Educational and Cultural Affairs is the official program sponsor of the exchange program covered by this RFGP, and an employee of the Bureau will be the “Responsible Officer” for the program under the terms of 22 CFR 62, which covers the administration of the Exchange Visitor Program (J visa program). Under the terms of 22 CFR 62, organizations receiving awards (either a grant or cooperative agreement) under this RFGP will be third parties “cooperating with or assisting the sponsor in the conduct of the sponsor's program.” The actions of recipient organizations shall be “imputed to the sponsor in evaluating the sponsor's compliance with” 22 CFR 62. Therefore, the Bureau expects that any organization receiving an award under this competition will render all assistance necessary to enable the Bureau to fully comply with 22 CFR 62 et seq.

The Bureau of Educational and Cultural Affairs places critically important emphases on the secure and proper administration of Exchange Visitor (J visa) Programs and adherence by recipient organizations and program participants to all regulations governing the J visa program status. Therefore, proposals should explicitly state in writing that the applicant is prepared to assist the Bureau in meeting all requirements governing the administration of Exchange Visitor Programs as set forth in 22 CFR 62.

If your organization has experience as a designated Exchange Visitor Program Sponsor, you should discuss your record of compliance with 22 CFR 62 et seq., including the oversight of Responsible Officers and Alternate Responsible Officers, screening and selection of program participants, provision of pre-arrival information and orientation to participants, monitoring of participants, proper maintenance and security of forms, record-keeping, reporting and other requirements. ECA will review the record of compliance with 22 CFR 62 et Seq. of applicant organizations designated as Exchange Visitor Program Sponsors by ECA's Office of Private Sector Exchange as one factor in evaluating the record/ability of organizations to carry out successful exchange programs.

The Office of Citizen Exchanges of ECA will be responsible for issuing DS-2019 forms to participants in this program.

A copy of the complete regulations governing the administration of Exchange Visitor (J) programs is available at http://exchanges.state.gov or from: Office of Designation, ECA/EC/D, SA-5, Floor C2, Department of State, Washington, DC 20522-0582.

IV.3d.2. Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Funds provided through this award may not be used to promote participation in, or to purchase equipment or supplies intended for, activities related to religious worship or proselytization. Host families, school officials, and grantee organizations shall not require program participants to attend religious services. However, as part of their exchange experience, participants may be offered the opportunity to take part voluntarily in this facet of their host culture, at their own discretion. Host families are encouraged to enable participants living with them to attend services of the participant's religion, if the participant so desires and the services are available within a reasonable distance of the host family's residence.

IV.3d.3. Program Monitoring and Evaluation

Proposals must include a plan to monitor and evaluate the project's success, both as the activities unfold and at the end of the program. The Bureau recommends that your proposal include a draft survey questionnaire or other technique plus a description of a methodology to use to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

Program Monitoring includes Participant Monitoring, which focuses specifically on ensuring students' health, safety and welfare throughout the year; see below for details and instructions. This section focuses on other aspects of Program Monitoring.

Program Monitoring: Proposals must include a plan to monitor and report on the YES Abroad students' successes, both as the activities unfold and at the end of the program. (YES inbound students will be monitored by the Placement Organization grants.) For YES Abroad students, the Bureau recommends that your proposal include a draft survey questionnaire or other technique, plus a description of a methodology that will be used to link outcomes to original project objectives. The Bureau expects that the grantee will track YES Abroad participants and be able to respond to key monitoring questions throughout the year, particularly on effects of the program on program participants, their host families and communities.

Successful monitoring depends heavily on setting clear goals and outcomes at the outset of a program. Your monitoring plan should include a description of your objectives for YES Abroad and how and when you intend to measure these outcomes. You should also show how your project objectives link to the goals of the program described in this RFGP.

Overall, the quality of your monitoring plan will be judged on how well it specifies successes and challenges. Grantees will be required to provide reports analyzing their YES Abroad monitoring findings to the Bureau in their quarterly program reports. All data collected, including survey responses and contact information, must be maintained for a minimum of three years and provided to the Bureau upon request.

IV.3e. Please take the following information into consideration when preparing your budget:

IV.3e.1. Applicants must submit SF-424A—“Budget Information—Non-Construction Programs” along with a comprehensive budget for the entire program. Awards may not exceed $17,500,000. Please indicate clearly the number of students funded, by country. There must be a summary budget as well as breakdowns reflecting both administrative and program budgets. Applicants may provide separate sub-budgets for each program component, phase, location, or activity to provide clarification.

IV.3e.2. Any/all sub-awards/agreements including accompanying budgets required to accomplish overall program objectives described herein, shall be submitted with the proposal package and must be approved by the Grants Officer, prior to commencement.

Please refer to the Solicitation Package for complete budget guidelines and formatting instructions.

IV.3f. Submission Dates and Times

Application Deadline Date: June 3, 2010.

Reference Number: ECA/PE/C/PY-10-06.

Methods of Submission—Applications may be submitted in one of two ways:

(1) In hard-copy, via a nationally recognized overnight delivery service (i.e., DHL, Federal Express, UPS, Airborne Express, or U.S. Postal Service Express Overnight Mail, etc.), or

(2) Electronically through http://www.grants.gov.

Along with the Project Title, all applicants must enter the above Reference Number in Box 11 on the SF-424 contained in the mandatory Proposal Submission Instructions (PSI) of the solicitation document.

IV.3f.1. Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and ten (10) copies of the application should be sent to: Program Management Division, ECA-IIP/EX/PM, Ref.: ECA/PE/C/PY-10-06, SA-5, Floor 4, Department of State, 2200 C Street, NW., Washington, DC 20522-0504.

Applicants submitting hard-copy applications must also submit the “Executive Summary” and “Proposal Narrative” sections of the proposal in text (.txt) or Microsoft Word format on CD-ROM to the program officer at BakerKM1@state.gov. As appropriate, the Bureau will provide these files electronically to Public Affairs Section(s) at the U.S. embassies for their review.

IV.3f.2. Submitting Electronic Applications

Applicants have the option of submitting proposals electronically through Grants.gov (http://www.grants.gov). Complete solicitation packages are available at Grants.gov in the “Find” portion of the system.

Please Note: ECA bears no responsibility for applicant timeliness of submission or data errors resulting from transmission or conversion processes for proposals submitted via Grants.gov.

Please follow the instructions available in the `Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to:

Grants.gov Customer Support.

Contact Center Phone: 800-518-4726.

Business Hours: Monday-Friday, 7 a.m.-9 p.m. EST.

E-mail: support@grants.gov.

Applicants have until midnight (12 a.m.), Washington, DC time of the closing date to ensure that their entire application has been uploaded to the Grants.gov site. There are no exceptions to the above deadline. Applications uploaded to the site after midnight of the application deadline date will be automatically rejected by the Grants.gov system, and will be technically ineligible.

Applicants will receive a confirmation e-mail from Grants.gov upon the successful submission of an application. ECA will not notify you upon receipt of electronic applications. It is the responsibility of all applicants submitting proposals via the Grants.gov web portal to ensure that proposals have been received by Grants.gov in their entirety. ECA bears no responsibility for data errors resulting from transmission or conversion processes.

IV.3g. Intergovernmental Review of Applications

Executive Order 12372 does not apply to this program.

IV.3f.2. Submitting Electronic Applications

Applicants have the option of submitting proposals electronically through Grants.gov (http://www.grants.gov). Complete solicitation packages are available at Grants.gov in the “Find” portion of the system.

Please Note: Due to Recovery Act related opportunities, there has been a higher than usual volume of grant proposals submitted through Grants.gov. Potential applicants are advised that the increased volume may affect the grants.gov proposal submission process. As stated in this RFGP, ECA bears no responsibility for applicant timeliness of submission or data errors resulting from transmission or conversion processes for proposals submitted via Grants.gov. Please follow the instructions available in the `Get Started' portion of the site (http://www.grants.gov/GetStarted).

Several of the steps in the Grants.gov registration process could take several weeks. Therefore, applicants should check with appropriate staff within their organizations immediately after reviewing this RFGP to confirm or determine their registration status with Grants.gov. Once registered, the amount of time it can take to upload an application will vary depending on a variety of factors including the size of the application and the speed of your internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to:

Grants.gov Customer Support.

Contact Center Phone: 800-518-4726.

Business Hours: Monday-Friday, 7 a.m.-9 p.m. EST.

E-mail: support@grants.gov.

Applicants have until midnight (12:00 a.m.), Washington, D.C. time of the closing date to ensure that their entire application has been uploaded to the Grants.gov site. There are no exceptions to the above deadline. Applications uploaded to the site after midnight of the application deadline date will be automatically rejected by the Grants.gov system, and will be technically ineligible.

Applicants will receive a confirmation e-mail from Grants.gov upon the successful submission of an application. ECA will not notify you upon receipt of electronic applications.

It is the responsibility of all applicants submitting proposals via the Grants.gov Web portal to ensure that proposals have been received by Grants.gov in their entirety. ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. In addition, ECA will review the record of compliance with 22 CFR 62 et seq. of applicant organizations designated as Exchange Visitor Program Sponsors by ECA's Office of Private Sector Exchange. If it is determined that an applicant organization submitting a proposal has a record of not being in compliance, their proposal will be deemed technically ineligible and receive no further consideration in the review process. If in compliance, the applicant organization's record of compliance will be used as one factor in evaluating the record/ability of organizations to carry out successful exchange programs.

All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards grants resides with the Bureau's Grants Officer.

Review Criteria

Technically eligible applications will be competitively reviewed according to the criteria stated below. These criteria are not rank ordered and all carry equal weight in the proposal evaluation:

1. Quality of the program idea and planning: Proposals should exhibit originality, substance, precision, and relevance to the Bureau's mission and the purposes outlined in the solicitation. Detailed agenda and relevant work plan should demonstrate the ability to ensure that the proposed project accomplishes the stated objectives in the desired time frame. Proposals should demonstrate how students will be recruited, selected, monitored, trained and prepared for their role as YES alumni. The level of creativity, resources, and effectiveness will be primary factors for review. Proposals should be clearly and accurately written, with sufficient, relevant detail. The Narrative should address all of the items in the Statement of Work and Guidelines described above.

2. Support of Diversity: Proposals should demonstrate substantive support of the Bureau's policy on diversity in all program aspects including participants (exchange students and hosts), sending and hosting communities, as well as content of orientation, program activities, resource materials, and follow-up activities. Proposals should articulate a diversity plan, not just a statement of compliance.

3. Organization's Record/Institutional Capacity: Proposed personnel and institutional resources should be adequate and appropriate to achieve the program's goals. Reviewers will assess the applicant and its partners to determine if they offer adequate resources, expertise, and experience to fulfill program objectives. Partner activities should be clearly defined. Proposals should demonstrate an institutional record of successful exchange programs, including responsible fiscal management and full compliance with all reporting and J-1 Visa requirements for past Bureau grants as determined by Bureau Grant Staff. ECA will consider the past performance of prior recipients and the demonstrated potential of new applicants. In addition, organizations designated as Exchange Visitor Program Sponsors must include a discussion of their record of compliance with 22 CFR 62 et seq., including the oversight of their Responsible Officers and Alternate Responsible Officers, screening and selection of program participants, provision of pre-arrival information and orientation to participants, monitoring of participants, proper maintenance and security of forms, record-keeping, reporting and other requirements. Proposals that fail to include the above information in their narrative will be deemed less or not competitive under this review criterion. ECA will review the record of compliance with 22 CFR 62 et seq. of organizations designated as Exchange Visitor Program Sponsors as one factor in evaluating the record/ability of organizations to carry out successful exchange programs.

4. Multiplier effect/Follow-on activities: Proposed programs should strengthen long-term mutual understanding, including maximum sharing of information and establishment of long-term institutional and individual ties both during the exchange and after the participants return home. Proposals should provide a plan for continued contact with alumni to ensure that they are tracked over time, utilized and/or organized as alumni, and provided opportunities to reinforce the knowledge and skills they acquired on the exchange and share them with others.

5. Participant Monitoring: Proposals must include a detailed monitoring plan for YES Abroad students. Given the importance the Department places on this criterion, you should dedicate a significant percentage of the narrative to explaining how you will achieve the Department's goals in regard to monitoring. You may use the appendices to house additional details and supporting documentation.

6. Project Evaluation: The proposal narrative must demonstrate how the applicant plans to assess the program's success in achieving program objectives and efficient operations, and what instruments will be employed to evaluate the program, including pre-departure orientations. Applicants may describe any experience conducting results-oriented evaluations. Successful applicants will demonstrate clear program goals and objectives as well as strategies for monitoring YES Abroad student and alumni progress, for both YES Abroad and YES inbound students. The grantee is also expected to submit quarterly reports that include YES Abroad student and alumni activities and progress.

7. Cost-effectiveness/Cost-Sharing: Reviewers will analyze the budget for clarity and cost-effectiveness. They will also assess the rationale of the proposed budget and whether the allocation of funds is appropriate to complete tasks outlined in the project narrative. The overhead and administrative components of the proposal, including salaries and honoraria, should be kept as low as possible. All other items should be necessary and appropriate. Proposals should maximize cost-sharing through other private sector support as well as institutional direct funding contributions. Preference will be given to organizations whose proposals demonstrate a quality, cost-effective program.

8. Value to U.S.-Partner Country Relations: Proposals should indicate how the program is of value to US and partner countries' interests, and receive positive assessments by the U.S. Department of State's geographic area desks and overseas officers of program need, potential impact, and significance in the partner countries.

VI. Award Administration Information

VI.1a. Award Notices

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer, and mailed to the recipient's responsible officer identified in the application. Unsuccessful applicants will receive notification of the results of the application review from the ECA program office coordinating this competition.

VI.1b. The following additional requirements apply to this project:

All awards made under this competition must be executed according to all relevant U.S. laws and policies regarding assistance to the Palestinian Authority, and to the West Bank and Gaza. Organizations must consult with relevant Public Affairs Offices before entering into any formal arrangements or agreements with Palestinian organizations or institutions.

Note: To assure that planning for the inclusion of the Palestinian Authority complies with requirements, please contact Kevin Baker, Program Officer, telephone (202) 632-6073 or BakerKM1@state.gov for additional information.

Special Provision for Performance in a Designated Combat Area (Currently Iraq and Afghanistan) (December 2008)

All Recipient personnel deploying to areas of combat operations, as designated by the Secretary of Defense (currently Iraq and Afghanistan), under assistance awards over $100,000 or performance over 14 days must register in the Department of Defense maintained Synchronized Pre-deployment and Operational Tracker (SPOT) system. Recipients of Federal assistance awards shall register in SPOT before deployment, or if already in the designated operational area, register upon becoming an employee under the assistance award, and maintain current data in SPOT. Information on how to register in SPOT will be available from your Grants Officer or Grants Officer Representative during the final negotiation and approval stages in the Federal assistance awards process. Recipients of Federal assistance awards are advised that adherence to this policy and procedure will be a requirement of all final Federal assistance awards issued by ECA.

Recipient performance may require the use of armed private security personnel. To the extent that such private security contractors (PSCs) are required, grantees are required to ensure they adhere to Chief of Mission (COM) policies and procedures regarding the operation, oversight, and accountability of PSCs.

VI.2. Administrative and National Policy Requirements

Terms and Conditions for the Administration of ECA agreements include the following:

Office of Management and Budget Circular A-122, “Cost Principles for Nonprofit Organizations”

Office of Management and Budget Circular A-21, “Cost Principles for Educational Institution”

OMB Circular A-87, “Cost Principles for State, Local and Indian Governments”

OMB Circular No. A-110 (Revised), Uniform Administrative Requirements for Grants and Agreements with Institutions of Higher Education, Hospitals, and other Nonprofit Organizations

OMB Circular No. A-102, Uniform Administrative Requirements for Grants-in-Aid to State and Local Governments

OMB Circular No. A-133, Audits of States, Local Government, and Non-profit Organizations

Please reference the following Web sites for additional information: http://www.whitehouse.gov/omb/grants; http://fa.statebuy.state.gov.

VI.3. Reporting Requirements

You must provide ECA with a hard copy original plus one copy of the following reports:

(1) A final program and financial report no more than 90 days after the expiration of the award;

(2) A concise, one-page final program report summarizing program outcomes no more than 90 days after the expiration of the award. This one-page report will be transmitted to OMB, and be made available to the public via OMB's USAspending.gov Web site—as part of ECA's Federal Funding Accountability and Transparency Act (FFATA) reporting requirements.

(3) A SF-PPR, “Performance Progress Report” Cover Sheet with all program reports.

(4) Quarterly program and financial reports which should include both quantitative and qualitative data you have available;

All data collected, including survey responses and contact information, must be maintained for a minimum of three years and provided to the Bureau upon request.

Award recipients will be required to provide reports analyzing their evaluation findings to the Bureau in their regular program reports. (Please refer to IV. Application and Submission Instructions (IV.3.d.3) above for Program Monitoring and Evaluation information.)

All data collected, including survey responses and contact information, must be maintained for a minimum of three years and provided to the Bureau upon request.

All reports must be sent to the ECA Grants Officer and ECA Program Officer listed in the final assistance award document.

Program Data Requirements:

Award recipients will be required to maintain specific data on program participants and activities in an electronically accessible database format that can be shared with the Bureau as required. As a minimum, the data must include the following:

(1) Name, address, contact information and biographic sketch of all persons who travel internationally on funds provided by the agreement or who benefit from the award funding but do not travel.

(2) Itineraries of international and domestic travel, providing dates of travel and cities in which any exchange experiences take place. Final schedules for in-country and U.S. activities must be received by the ECA Program Officer at least three work days prior to the official opening of the activity.

VII. Agency Contacts

For questions about this announcement, contact: Kevin Baker, Program Officer, ECA/PE/C/PY, 3E14 Ref. Nr. ECA/PE/C/PY-10-06, U.S. Department of State, SA-5, 2200 C St., NW., Washington, DC 20522, tel. 202-632-6073 or e-mail: BakerKM1@state.gov.

All correspondence with the Bureau concerning this RFGP should reference the above title and number ECA/PE/C/PY-10-06. Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: April 15, 2010.
Maura M. Pally,
Acting Assistant Secretary for Educational and Cultural Affairs, Department of State.

[FR Doc. 2010-9334 Filed 4-21-10; 8:45 am]

BILLING CODE 4710-05-P